DEPARTMENT OF COMMERCE

International Trade Administration

[A-427-801]

Ball Bearings and Parts Thereof from France: Initiation of Antidumping Duty Changed-Circumstances Review

AGENCY: Import Administration, International Trade Administration, Department of Commerce.

SUMMARY: In response to a request from SKF Aeroengine France S.A.S.U., the Department of Commerce is initiating a changed-circumstances review of the antidumping duty order on ball bearings and parts thereof from France.

EFFECTIVE DATE: March 30, 2009.

FOR FURTHER INFORMATION CONTACT: Kristin Case or Richard Rimlinger, AD/CVD Operations, Office 5, Import Administration, International Trade Administration, U.S. Department of Commerce, 14th Street and Constitution Avenue, NW, Washington, DC 20230; (202) 482-3174 or (202) 482-4477, respectively.

SUPPLEMENTARY INFORMATION:

Background

The Department of Commerce (the Department) published an antidumping duty order on ball bearings and parts thereof from France on May 15, 1989. See Antidumping Duty Orders: Ball Bearings, Cylindrical Roller Bearings, Spherical Plain Bearings, and Parts Thereof From France, 54 FR 20902 (May 15, 1989). On August 11, 2000, the Department revoked the order, effective May 1, 1999, with respect to sales of ball bearings by SNFA S.A. (SNFA). See Antifriction Bearings (Other Than Tapered Roller Bearings) and Parts Thereof From France, Germany, Italy, Japan, Romania, Singapore, Sweden, and the United Kingdom; Final Results of Antidumping Duty Administrative Reviews and Revocation of Orders in Part, 65 FR 49219 (August 11, 2000).

On March 2, 2007, pursuant to a request from SNFA, SKF France S.A., and SKF Aerospace France S.A.S., we initiated a changed-circumstances review in order to determine whether SNFA was a successor-in-interest to SKF France S.A. following SNFA's acquisition by that company or, alternatively, that post-acquisition SNFA was the successor-in-interest to the pre-acquisition SNFA. See Ball Bearings and Parts Thereof from France: Initiation of an Antidumping Duty Changed-Circumstances Review, 72 FR 9513 (March 2, 2007). During the course of the changed-circumstances review, the companies informed the Department that SNFA would be changing its name to SKF Aeroengine France S.A.S.U. (SKF Aeroengine).

On June 29, 2007, we initiated an administrative review of the antidumping duty order on ball bearings and parts thereof from France for the period May 1, 2006, through April 30, 2007, with respect to SKF France S.A. and SKF Aerospace France S.A.S. See Initiation of Antidumping and Countervailing Duty Administrative Reviews, Request for Revocation in Part and Deferral of Administrative Review, 72 FR 35690 (June 29, 2007). On October 26, 2007, we rescinded the changed-circumstances review and explained that, because we had initiated an administrative review with respect to SKF France S.A. and SKF Aerospace France S.A.S., we would address any issues that had arisen during the course of the changed-circumstances review in the context of the administrative review. See Ball Bearings and Parts Thereof from France and Italy: Rescission of Antidumping Duty Changed-Circumstances Reviews, 72 FR 60798 (October 26, 2007). In the final results of the 2006/07 administrative review, we determined that post-acquisition SNFA was the successor-in-interest to pre-acquisition SNFA and that, during the period of review, SNFA had not changed its name to SKF Aeroengine. See Ball Bearings and Parts Thereof From France, Germany, Italy, Japan, and the United Kingdom: Final Results of Antidumping Duty Administrative Reviews and Rescission of Reviews in Part, 73 FR 52823 (September 11, 2008), and accompanying Issues and Decision Memorandum at comment 12 (AFBs Final Results).

On February 6, 2009, SKF Aeroengine requested that, because the Department appeared to have left open the effect of the name change on its determination in AFBs Final Results, the Department either confirm that its determination encompassed the name change or, in the alternative, the Department initiate a changed-circumstances review to determine whether SKF Aeroengine is the successor-in-interest to SNFA.

No other party submitted comments.

Scope of the Order

The products covered by the order are ball bearings (other than tapered roller bearings) and parts thereof. These products include all bearings that employ balls as the rolling element. Imports of these products are classified under the following categories: antifriction balls, ball bearings with integral shafts, ball bearings (including radial ball bearings) and parts thereof, and housed or mounted ball bearing units and parts thereof.

Imports of these products are classified under the following Harmonized Tariff Schedule of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

Although the HTSUS item numbers above are provided for convenience and customs purposes, the written description of the scope of the order is dispositive.

Initiation of Changed-Circumstances Review

Pursuant to section 751(b)(1) of the Tariff Act of 1930 (the Act), as amended, and 19 CFR 351.216, the Department will conduct a changed-circumstances review upon receipt of information concerning, or a request from an interested party for a review of, an antidumping duty order which shows changed circumstances sufficient to warrant a review of the order. SKF Aeroengine claims that it has satisfied the criteria to warrant such a review. We agree that the information submitted by SKF Aeroengine demonstrates changed circumstances sufficient to warrant a review. Therefore, in accordance with the above-referenced regulation, the Department is initiating a changed-circumstances review.

SKF Aeroengine claims that the information contained in its February 6, 2009, request demonstrates that SKF Aeroengine is the successor-in-interest to SNFA and requests that the Department thus refrain from issuing a changed-circumstances questionnaire. In accordance with 19 CFR 351.221(b)(2) and (4) and 19 CFR 351.221(c)(3)(i), we may issue a questionnaire requesting factual information for the review and will publish a notice of preliminary results of the antidumping duty changed-circumstances review in the Federal Register. The notice will set forth the factual and legal conclusions upon which our preliminary results are based. Pursuant to 19 CFR 351.221(b)(4)(ii), interested parties will have an opportunity to comment on the preliminary results of review. We will issue our final results of review no later than the regulatory deadline in accordance with 19 CFR 351.216(e). During the course of this antidumping duty changed-circumstances review, we will not change the cash-deposit requirements for the subject merchandise. The cash-deposit rate will be altered, if warranted, pursuant only to the final results of this changed-circumstances review.

This notice of initiation is in accordance with section 751(b)(1) of the Act, 19 CFR 351.216(b) and (d), and 19 CFR 351.221(b)(1).

Dated: March 23, 2009.
Ronald K. Lorentzen,
Acting Assistant Secretary for Import Administration.

[FR Doc. E9-7018 Filed 3-27-09; 8:45 am]

BILLING CODE 3510-DS-S